DEPARTMENT OF DEFENSE

Office of the Secretary

[Docket ID: DoD-2009-OS-0145]

Privacy Act of 1974; System of Records

AGENCY: Defense Intelligence Agency, DoD.

ACTION: Notice to alter a system of records.

SUMMARY: The Defense Intelligence Agency is proposing to alter a system of records in its existing inventory of records systems subject to the Privacy Act of 1974, (5 U.S.C. 552a), as amended.

DATES: The proposed action will be effective on November 12, 2009 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency system of records notices subject to the Privacy Act of 1974, (5 U.S.C. 552a), as amended, have been published in the Federal Register and are available from the address above.

The proposed system report, as required by 5 U.S.C. 552a(r) of the Privacy Act of 1974, as amended, was submitted on October 1, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: October 1, 2009.
Patricia L. Toppings,
OSD Federal Register Liaison Officer, Department of Defense.

LDIA 0140

SYSTEM NAME:

Passports and Visas (July 19, 2006, 71 FR 41004).

CHANGES:

* * * * *

CATEGORIES OF RECORDS IN THE SYSTEM:

Delete entry and replace with “Name, address, phone number, Social Security Number (SSN), and forms and applications as required by the U.S. Department of State for obtaining passports, passports themselves, and Visa applications.”

* * * * *

STORAGE:

Delete entry and replace with “Paper files”.

RETRIEVABILITY:

Delete entry and replace with “By individual's last name.”

SAFEGUARDS:

Delete entry and replace with “Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.”

RETENTION AND DISPOSAL:

Delete entry and replace with “Passports are returned to Department of State upon departure of the individual from DIA. Copies of forms and applications are destroyed by shredding or burning. Original forms are property of the U.S. Department of State.”

* * * * *

CONTESTING RECORD PROCEDURES:

Delete entry and replace with “DIA's rules for accessing records, for contesting contents and appealing initial agency determinations are published in DIA Instruction 5400.001 “Defense Intelligence Agency Privacy Program” or may be obtained from the system manager.”

* * * * *

LDIA 0140

SYSTEM NAME:

Passports and Visas.

SYSTEM LOCATION:

Defense Intelligence Agency, Washington, DC 20340-5100.

CATEGORIES OF INDIVIDUALS COVERED BY THE SYSTEM:

All DIA personnel requiring passports and visas.

CATEGORIES OF RECORDS IN THE SYSTEM:

Name, address, phone number, Social Security Number (SSN), and forms and applications as required by the U.S. Department of State for obtaining passports, passports themselves, and Visa applications.

AUTHORITY FOR MAINTENANCE OF THE SYSTEM:

5 U.S.C. 301, Departmental Regulations; DoD 1000.21-R, Passport Agent Services Regulation; and E.O. 9397 (SSN), as amended.

PURPOSE(S):

Information is collected to obtain and for safekeeping of official passports until needed for travel and to obtain necessary visas from appropriate Embassies; to notify individuals to reapply when passports expire and to return passports to the Department of State upon departure of the individual from DIA.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The DoD ‘Blanket Routine Uses' set forth at the beginning of the DIA's compilation of systems of records notices apply to this system.

POLICIES AND PRACTICES FOR STORING, RETRIEVING, ACCESSING, RETAINING, AND DISPOSING OF RECORDS IN THE SYSTEM:

STORAGE:

Paper files.

RETRIEVABILITY:

By individual's last name.

SAFEGUARDS:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.

RETENTION AND DISPOSAL:

Passports are returned to Department of State upon departure of the individual from DIA. Copies of forms and applications are destroyed by shredding or burning. Original forms are property of the U.S. Department of State.

SYSTEM MANAGER(S) AND ADDRESS:

Operations Management Branch, ATTN: DAL-2B, Defense Intelligence Agency, Washington, DC 20340-5100.

NOTIFICATION PROCEDURE:

Individuals seeking to determine whether information about themselves is contained in this system of records should address written inquiries to the Freedom of Information Act Office (DAN-1A/FOIA), Defense Intelligence Agency, 200 MacDill Blvd., Washington, DC 20340-5100.

Individual should provide their full name, current address, telephone number and Social Security Number (SSN).

RECORD ACCESS PROCEDURES:

Individuals seeking access to information about themselves contained in this system should address written inquiries to the Freedom of Information Act Office (DAN-1A/FOIA), Defense Intelligence Agency, 200 MacDill Blvd., Washington, DC 20340-5100.

Individual should provide their full name, current address, telephone number and Social Security Number (SSN).

CONTESTING RECORD PROCEDURES:

DIA's rules for accessing records, for contesting contents and appealing initial agency determinations are published in DIA Instruction 5400.001 “Defense Intelligence Agency Privacy Program” or may be obtained from the system manager.

RECORD SOURCE CATEGORIES:

Individual applicant; Department of State, Passport Office; and Embassies.

EXEMPTIONS CLAIMED FOR THE SYSTEM:

None.

[FR Doc. E9-24507 Filed 10-9-09; 8:45 am]

BILLING CODE 5001-06-P